DEPARTMENT OF ENERGY

Federal Energy Regulatory Commission

[Docket No. AD15-4-000]

Technical Conference on Environmental Regulations and Electric Reliability, Wholesale Electricity Markets, and Energy Infrastructure; Supplemental Notice of Technical Conference

As announced in the Notice of Technical Conferences issued on December 9, 2014 ¹ and the Supplemental Notice of Technical Conferences issued on January 6, 2015,² the Federal Energy Regulatory Commission (Commission) staff will hold an Eastern region ³ technical conference to discuss implications of compliance approaches to the Clean Power Plan proposed rule, issued by the Environmental Protection Agency (EPA) on June 2, 2014.⁴ The technical conference will focus on issues related to electric reliability, wholesale electric markets and operations, and energy infrastructure in the Eastern region. The Commission will hold the Eastern region technical conference on March 11, 2015, from approximately 9:30 a.m. to 5:00 p.m. at the Federal Energy Regulatory Commission, 888 First Street NE., Washington, DC. This conference is free of charge and open to the public. Commission members may participate in the conference. The agenda for the Eastern region technical conference is attached to this Supplemental Notice of Technical Conference.

¹ Technical Conference on Environmental Regulations and Electric Reliability, Wholesale Electricity Markets, and Energy Infrastructure, Docket No. AD15-4-000, (Dec. 9, 2014) (Notice of Technical Conferences), available at http://www.ferc.gov/CalendarFiles/20141209165657-AD15-4-000TC.pdf.

² Technical Conference on Environmental Regulations and Electric Reliability, Wholesale Electricity Markets, and Energy Infrastructure, Docket No. AD15-4-000, (Jan. 6, 2015) (Supplemental Notice of Technical Conferences), available at http://www.ferc.gov/CalendarFiles/20150106170115-AD15-4-000TC1.pdf.

³ For purposes of this conference, the Eastern region includes the following Commission-approved Order No. 1000 planning regions: ISO New England Inc. (ISO-NE), PJM Interconnection, LLC (PJM), New York Independent System Operator (NYISO), Southeastern Regional Transmission Planning (SERTP), South Carolina Regional Transmission Planning (SCRTP), and Florida Reliability Coordinating Council (FRCC). This region also includes the Northern Maine Independent System Administrator (NMISA).

⁴ Carbon Pollution Emission Guidelines for Existing Stationary Sources: Electric Utility Generating Units, 79 FR 34,830 (2014) (Proposed Rule), available at http://www.gpo.gov/fdsys/pkg/FR-2014-06-18/pdf/2014-13725.pdf.

Those interested in speaking at the technical conference should notify the Commission by February 18, 2015, by completing the online form at the following Web page: https://www.ferc.gov/whats-new/registration/03-11-15-speaker-form.asp. At this Web page, please provide an abstract (700 character limit) of the issue(s) you propose to address. Due to time constraints, we expect to not be able to accommodate all those interested in speaking. Selected speakers will be notified as soon as possible.

If you have not already done so, those who plan to attend the technical conference are strongly encouraged to complete the registration form located at: https://www.ferc.gov/whats-new/registration/03-11-15-eastern-form.asp. Those interested in attending the Eastern region conference are encouraged to register by close of business March 2, 2015.

The Commission will post information on the technical conference on the Calendar of Events on the Commission's Web site, http://www.ferc.gov, prior to the conference. The Eastern region technical conference will also be transcribed. Transcripts of the technical conference will be available for a fee from Ace-Federal Reporters, Inc. ((202) 347-3700 or (800) 336-6646). There will also be a free webcast of the conference. The Webcast will allow persons to watch the Eastern region technical conference, but not participate. Anyone with Internet access who desires to watch the Eastern region conference can do so by navigating to the Calendar of Events on the Commission's Web site, http://www.ferc.gov, and locating the Eastern region technical conference in the Calendar. The Eastern region technical conference will contain a link to its webcast.⁵

⁵ The Webcast will continue to be available on the Calendar of Events on the Commission's Web site, http://www.ferc.gov, for three months after the conference.

Commission conferences are accessible under section 508 of the Rehabilitation Act of 1973. For accessibility accommodations, please send an email to accessibility@ferc.gov or call toll free (866) 208-3372 (voice) or (202) 502-8659 (TTY), or send a FAX to (202) 208-2106 with the required accommodations.

For more information about the technical conferences, please contact:

Logistical Information

Sarah McKinley, Office of External Affairs, Federal Energy Regulatory Commission, 888 First Street NE., Washington, DC 20426, (202) 502-8368, sarah.mckinley@ferc.gov.

Legal Information

Alan Rukin, Federal Energy Regulatory Commission, 888 First Street NE., Washington, DC 20426, (202) 502-8502, alan.rukin@ferc.gov.

Technical Information

Matthew Jentgen, Federal Energy Regulatory Commission, 888 First Street NE., Washington, DC 20426, (202) 502-8725, matthew.jentgen@ferc.gov.

Technical Information

Michael Gildea, Federal Energy Regulatory Commission, 888 First Street NE., Washington, DC 20426, (202) 502-8420, michael.gildea@ferc.gov.

Dated: February 13, 2015.
Nathaniel J. Davis, Sr.,
Deputy Secretary.

[FR Doc. 2015-03643 Filed 2-23-15; 8:45 am]

BILLING CODE 6717-01-P